DEPARTMENT OF THE INTERIOR

Bureau of Land Management

[NV-930-5854-EU; N-54086 and N-66239]

Notice of Realty Action: Public Law 106-113, as Amended, Non-Competitive Sale of Public Lands and the Conveyance of Public Lands for Recreation and Public Purposes

AGENCY: Bureau of Land Management, Interior.

ACTIONS: A Non-Competitive Sale of Public Lands and A Recreation and Public Purpose Conveyance in Nye County, Nevada.

SUMMARY: The following described public lands in Amargosa Valley, Nye County, Nevada, were segregated on September 5, 1997, for exchange purposes under serial number N-61968. That segregation on the lands listed below will be terminated upon publication of this notice in the Federal Register. Public Law 106-113, as amended, provides for the non-competitive sale of approximately 342.46 acres of public land and the Recreation and Public Purposes Act of June 14, 1926 conveyance of 470.10 acres of public lands, to Nye County, Nevada. Approximately 10.66 acres of public land abutting the legislative sale area will be conveyed under Section 203 and Section 209 of the Federal Land Policy and Management Act of 1976 (FLPMA) and Public Law 106-248. Two separate realty actions are proposed in this notice. Both proposed realty actions affect public land in Amargosa Valley at the intersection of U.S. Highway 95 and Nevada State Route 373, known as Lathrop Wells, Nye County, Nevada.

First Realty Action (N-66239) The following described public land has been examined and found suitable for sale utilizing non-competitive procedures, at not less than the fair market value. Authority for the sale is Section 203 and Section 209 of FLPMA and Public Law 106-113.

Mount Diablo Meridian, Nevada

T. 15 S., R. 50 E., section 18, Lots 39, 41, E½NW¼, E½W½NW¼, NE¼SW¼, N½NE¼NW¼SW¼, SE¼NE¼NW¼SW¼, SE¼NW¼SW¼, E½NE¼SE¼SW¼, NE¼NW¼SE¼SW¼, E½SE¼, NW¼SE¼, N½SW¼SE¼, E½SE¼SW¼SE¼, NW¼SE¼SW¼SE¼.

T. 15 S., R. 50 E., section 19, Lots 8, 59, 61, 63, 65, 67, 70.

Sale Area Contains a Total of 353.12 Acres, More or Less.

This parcel of land, situated in Nye County, Nevada, is being offered in accordance with Public Law 106-113 as a non-competitive sale to Nye County for a period of five years, beginning November 29, 1999, the date of enactment of the legislation and expiring on November 28, 2004. That portion of sale area located within section 19 will be conveyed under the authority of FLPMA and Public Law 106-248. The sale of the above described public land could occur in either one sales transaction or under multiple sales transactions. This land is not required for any federal purposes. The sale is consistent with current Bureau planning for this area and would be in the public interest.

In the event of a sale, conveyance of the available mineral interests will occur simultaneously with the sale of the land. The mineral interests being offered for conveyance have no known mineral value. Acceptance of a direct sale offer will constitute an application for conveyance of those mineral interests. The applicant will be required to pay a $50.00 nonreturnable filing fee for conveyance of the available mineral interests.

The patent, when issued, will contain the following reservations to the United States:

1. A right-of-way thereon for ditches and canals constructed by the authority of the United States, Act of August 30, 1890 (43 U.S.C. 945).

2. Right-of-way CC-018078 issued to Nevada Department of Transportation, under the Act of November 9, 1921; 042 Stat 0216, for a Federal Aid Highway.

3. Right-of-way CC-018323 issued to Nevada Department of Transportation, under the Act of November 9, 1921; 042 Stat 0216, for a Federal Aid Highway.

4. Oil, gas, and saleable mineral estates.

And will be subject to:

1. Right-of-way CC-21488 issued to Nevada Bell March 10, 1950, under the Act of October 21, 1976; 090 Stat 2776.

2. Right-of-way CC-021745 issued to Nevada Bell May 23, 1944, under the Act of October 21, 1976 for a telephone line.

3. Right-of-way Nev-058116 issued to Valley Electric Association, under the Act of February 15, 1901; 031 Stat 0790,for power line purposes.

4. Mining Claims NMC647491 and NMC647492 both filed by Bartz Lawrence on April 18, 1992.

Upon publication of this notice in the Federal Register, the above described land will be segregated from all other forms of appropriation under the public land laws, including the general mining laws, except for sales and disposals under the mineral disposal laws. This segregation will terminate upon issuance of a patent or 270 days from the date of this publication, whichever occurs first.

Second Realty Action (N-54086): The following described public land has been examined and found suitable for conveyance for recreational or public purposes under the provisions of the Recreation and Public Purposes Act (R&PP), as amended (43 U.S.C. 869 et seq.), and Public Law 106-113, as amended. Nye County proposes to lease the following public lands to the Nevada Science and Technology Center, a non-profit corporation, for the development of the Nevada Space Museum, outdoor exhibit areas, and associated facilities.

Mount Diablo Meridian

T. 15 S., R. 49 E., section 13, Lots 2, 9, 7, 5, 3, 12, 14, NE¼, E½NW¼, NW¼NW¼.

T. 15 S., R. 50 E., section 18, Lots 6-24, 26-29, 34, 37.

R&PP Area Contains a Total of 470.10 Acres, More or Less.

This land is not required for any federal purpose. The conveyance is consistent with current Bureau planning for this area and would be in the public interest. The patent when issued will be subject to the provision of the Recreation and Public Purposes Act and applicable regulations of the Secretary of the Interior and contain the following reservations:

1. A right-of-way thereon for ditches and canals constructed by the authority of the United States, Act of August 30, 1890 (43 U.S.C. 945).

2. Right-of-way CC-018078 issued to Nevada Department of Transportation, under the Act of November 9, 1921; 042 Stat 0216, for a Federal Aid Highway.

3. All minerals will be reserved to the United States of America, together with the right to prospect for, mine and remove such deposits from the same under applicable law and such regulations as the Secretary of the Interior may prescribe. and will be subject to:

1. Right-of-way CC-21488 issued to Nevada Bell March 10, 1950, and amended, January 7, 1994, under the Act of October 21, 1976; 090 Stat 2776.

Detailed information concerning this action is available for review at the office of the Bureau of Land Management, 4765 Vegas Drive, Las Vegas, Nevada 89108.

Upon publication of this notice in the Federal Register, the above described land will be segregated from all other forms of appropriation under the public land laws, including the general mining laws, except for conveyance under the Recreation and Public Purposes Act, leasing under the mineral leasing laws and disposals under the mineral material disposal laws.

For a period of 45 days from the date of publication of this notice in the Federal Register, interested parties may submit comments pertaining to either of the above actions to the Field Manager, Las Vegas Field Office, 4765 Vegas Drive, Las Vegas, Nevada 89108.

Sale Comments: Any adverse comments will be reviewed by the State Director who may sustain, vacate, or modify this realty action. In the absence of any adverse comments, these realty actions will become the final determination of the Department of the Interior. The Bureau of Land Management may accept or reject any or all offers, or withdraw any land or interest in the land from sale, if, in the opinion of the authorized officer, consummation of the sale would not be fully consistent with FLPMA, or other applicable laws. The lands will not be offered for sale until at least 60 days after the date of publication of this notice in the Federal Register.

R&PP Classification Comments: Interested parties may submit comments involving the suitability of the land for the Nevada Science and Technology Center, outdoor exhibit area, and associated facilities. Comments on the classification are restricted to whether the land is physically suited for the proposal, whether the use will maximize the future use of uses of the land, whether the use is consistent with local planning and zoning, or if the use is consistent with State and Federal programs.

R&PP Application Comments: Interested parties may submit comments regarding the specific use proposed in the application and plan of development, whether the Bureau of Land Management followed proper administrative procedures in reaching the decision, or any other factor not directly related to the suitability of the land for a Space Museum, outdoor exhibit area, and associated facilities.

Any adverse comments will be reviewed by the State Director. In the absence of any adverse comments, the classification of the land described in the Notice will become effective 60 days from the date of publication in the Federal Register. The lands will not be offered for conveyance until after the classification becomes effective.

Dated: February 23, 2001.
Rex Wells,
Assistant Field Manager, Las Vegas, NV.

[FR Doc. 01-5892 Filed 3-8-01; 8:45 am]

BILLING CODE 4310-HC-U